DEPARTMENT OF DEFENSE

Office of the Secretary

[Transmittal No. 24-32]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-32 and Policy Justification.

Dated: January 16, 2025.
Stephanie J. Bost,
Alternate OSD Federal Register Liaison Officer, Department of Defense.

BILLING CODE 6001-FR-P

BILLING CODE 6001-FR-C

Transmittal No. 24-32

Notice of Proposed Issuance of Letter of Offer Pursuant to Section 36(b)(1) of the Arms Export Control Act, as amended

(i) Prospective Purchaser: Government of Canada

(ii) Total Estimated Value:

Major Defense Equipment * | $ 0
Other | $138 million
TOTAL | $138 million

(iii) Description and Quantity or Quantities of Articles or Services under Consideration for Purchase:

Major Defense Equipment (MDE):

None

Non-MDE:

Telecommunications services providing Tactical Narrowband Satellite Communications (SATCOM) access to Canadian Armed Forces users over the Mobile User Objective System (MUOS) service; communication technical assistance to provide operational support, lifecycle management support, and engineering technical assistance and services; personnel training and training equipment; United States (U.S.) Government and contractor engineering; technical and logistics support services; and other related elements of logistics and program support.

(iv) Military Department: Air Force (CN-D-DAV)

(v) Prior Related Cases, if any: CN-P-FEU, CN-P-FFN

(vi) Sales Commission, Fee, etc., Paid, Offered, or Agreed to be Paid: None known at this time

(vii) Sensitivity of Technology Contained in the Defense Article or Defense Services Proposed to be Sold: None

(viii) Date Report Delivered to Congress: March 7, 2024

* as defined in Section 47(6) of the Arms Export Control Act.

POLICY JUSTIFICATION

Canada—Mobile User Objective System Access

The Government of Canada has requested to buy telecommunications services providing Tactical Narrowband Satellite Communications (SATCOM) access to Canadian armed forces users over the Mobile User Objective System (MUOS) service; communication technical assistance to provide operational support, lifecycle management support, and engineering technical assistance and services; personnel training and training equipment; U.S. Government and contractor engineering; technical and logistics support services; and other related elements of logistics and program support. The estimated total cost is $138 million.

This proposed sale will support the foreign policy and national security objectives of the U.S. by helping to improve the military capability of Canada, a NATO Ally that is an important force for ensuring political stability and economic progress and a contributor to military, peacekeeping, and humanitarian operations around the world.

The proposed sale will improve Canada's ability to meet current and future threats by providing ultra-high frequency SATCOM access. MUOS access will increase Canada's capacity to conduct operations in concert with U.S. forces for the defense of North America. Enhanced functionality in northern latitudes is integral to meeting Canada's North American Aerospace Defense Command missions and makes MUOS particularly beneficial to continental air defense collaboration. Canada will have no difficulty absorbing these services into its armed forces.

The proposed sale of this equipment and support will not alter the basic military balance in the region.

The principal contractor will be General Dynamics, Reston, VA. There are no known offset agreements proposed in connection with this potential sale.

Implementation of this proposed sale will not require the assignment of any additional U.S. Government or contractor representatives to Canada.

There will be no adverse impact on U.S. defense readiness as a result of this proposed sale.

[FR Doc. 2025-01489 Filed 1-21-25; 8:45 am]

BILLING CODE 6001-FR-P